DEPARTMENT OF TRANSPORTATION

Surface Transportation Board

[STB Finance Docket No. 34807]

Richard D. Robey—Continuance in Control Exemption—Susquehanna Valley Railroad Corporation and Stourbridge Railroad Company

Richard D. Robey, a noncarrier individual, has filed a verified notice of exemption to continue in control of Susquehanna Valley Railroad Corporation (SVRC), a newly incorporated holding company, and Stourbridge Railroad Company (Stourbridge).

The transaction was scheduled to be consummated on or after January 1, 2006.

At the time of filing, Mr. Robey was the sole shareholder and owner of eight Class III railroads: Stourbridge, Juniata Valley Railroad Company, Lycoming Valley Railroad Company, Nittany & Bald Eagle Railroad Company, North Shore Railroad Company, Wellsboro & Corning Railroad Company, Union County Industrial Railroad Company, and Shamokin Valley Railroad Company. In a related transaction, SVRC has filed a verified notice of exemption to acquire control of all of the above Class III railroads, except Stourbridge, which Mr. Robey will continue to control directly.

Mr. Robey states that: (i) The railroads do not connect with each other or any railroads in their corporate family; (ii) The continuance in control is not part of a series of anticipated transactions that would connect the railroads with each other or any other railroad in their corporate family; and (iii) The transaction does not involve a Class I railroad. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Accordingly, the Board may not impose labor protective conditions here, because all of the carriers involved are Class III carriers.

If the notice contains false or misleading information, the exemption is void ab initio. Petitions to revoke the exemption under 49 U.S.C. 10502(d) may be filed at any time. The filing of a petition to revoke will not automatically stay the transaction.

An original and 10 copies of all pleadings, referring to STB Finance Docket No. 34807, must be filed with the Surface Transportation Board, 1925 K Street, NW., Washington, DC 20423-0001. In addition, a copy of each pleading must be served on: Richard R. Wilson, Esq., 127 Lexington Avenue, Ste. 100, Altoona, PA 16601.

Board decisions and notices are available on our Web site at http://www.stb.dot.gov.

Decided: January 5, 2006.
By the Board, David M. Konschnik, Director, Office of Proceedings.
Vernon A. Williams,
Secretary.

[FR Doc. E6-217 Filed 1-11-06; 8:45 am]

BILLING CODE 4915-01-P